FEDERAL RESERVE SYSTEM

Notice of Proposals to Engage in Permissible Nonbanking Activities or to Acquire Companies That are Engaged in Permissible Nonbanking Activities; Correction

This notice corrects a notice (FR Doc. E6453) published on page 70849 of the issue for Wednesday, November 23, 2005.

Under the Federal Reserve Bank of Chicago heading, the entry for MainSource Financial Group, Inc., Greensburg, Indiana, is revised to read as follows:

A. Federal Reserve Bank of Chicago (Patrick M. Wilder, Assistant Vice President) 230 South LaSalle Street, Chicago, Illinois 60690-1414:

1. Main Source Financial Group, Inc., Greensburg, Indiana; to acquire 100 percent of the voting shares of Union Community Bancorp, Crawfordsville, Indiana, and thereby indirectly acquire Union Federal Savings and Loan Association, Crawfordsville, Indiana (“Union Federal”), and thereby engage in operating a savings and loan association, pursuant to section 225.28(b)(4)(ii) of Regulation Y.

In connection with this Application, Applicant has applied to acquire MainSource Bank-Crawfordsville, Crawfordsville, Indiana. Union Federal will merge into MainSource Bank—Crawfordsville, as part of this transaction, pursuant to section 3 of the Bank Holding Company Act.

Comments on this application must be received by December 19, 2005.

Board of Governors of the Federal Reserve System, December 1, 2005.
Robert deV. Frierson,
Deputy Secretary of the Board.

[FR Doc. E5-6914 Filed 12-6-05; 8:45 am]

BILLING CODE 6210-01-S